DEPARTMENT OF THE INTERIOR

Bureau Of Land Management

[LLAKF02000.L14300000.EQ0000; AKFF096399]

Notice of Realty Action; Non-Competitive Land Use Authorization of Public Lands in the Fairbanks North Star Borough, Alaska

AGENCY: Bureau of Land Management, Interior.

ACTION: Notice of realty action.

SUMMARY: The Bureau of Land Management (BLM) is considering the issuance of a permit for mineral exploration on lands withdrawn for use by the National Oceanic and Atmospheric Administration (NOAA). The proposal to conduct sampling associated with mineral assessment on the subject lands was provided by Fairbanks Gold Mining, Inc. (FGMI). The BLM has determined that the lands are suitable and available for issuance of a non-competitive permit for such purposes to FGMI under the authority of Section 302 of the Federal Land Policy and Management Act (FLPMA).

DATES: Comments must be received by the BLM Eastern Interior Field Office at the address below on or before August 11, 2014.

ADDRESSES: Send written comments concerning this notice to: Acting Field Office Manager, Bureau of Land Management, Eastern Interior Field Office, 1150 University Avenue, Fairbanks, AK 99709.

FOR FURTHER INFORMATION CONTACT: Michael Gibson, Acting Field Office Manager, Bureau of Land Management, Eastern Interior Field Office, at the above address, by telephone at 907-474-2263, or by email at mjgibson@blm.gov. Persons who use a telecommunication device for the deaf (TDD) may call the Federal Information Relay Service (FIRS) at 1-800-877-8339 to contact the individual. The FIRS is available 24 hours a day, 7 days a week to leave a message or a question with the above individual. You will receive a reply during normal business hours.

SUPPLEMENTARY INFORMATION: The proposed FLPMA Section 302 permit would be located within the following lands:

Fairbanks Meridian, Alaska

T. 2 N., R. 2 E.,

Sec. 7, SE¼SE¼;

Sec. 8, SW¼SW¼;

Sec. 17, W½, excepting lands described in Public Land Order 7763;

Sec. 18;

Sec. 19, lot 1;

Sec. 20, W½, W½E½ (partial), excepting lands described in Public Land Order 7682.

The areas described aggregate approximately 1,966 acres within the Fairbanks North Star Borough.

Although the subject lands are not covered by a BLM land use plan, the proposed mineral assessment activities are consistent with current and historic uses of BLM-managed lands in the area. The BLM has authorized similar mineral assessment activities on these lands in the past, and mining and mineral-related activities have been ongoing in this area for more than 100 years. No mineral assessment activities would take place on ground subject to valid existing rights pursuant to Public Land Order (PLO) 3708 (30 FR 8753, July 10,1965), as modified by PLO 6709 (54 FR 6919, February 15, 1989), and extended by PLO 7710 (73 FR 35708, June 24, 2008). The lands affected are adjacent to Fort Knox, one of the largest operating gold mines in Alaska.

In accordance with the requirements of PLO 3708, the BLM sought and received a letter of non-objection from NOAA stating that the mineral assessment activities proposed by FGMI will not interfere with the operation of its facilities so long as certain conditions identified by NOAA are incorporated into any permit.

The proposed mineral assessment activities are anticipated to impact approximately 25 acres over a 3-year period. Approximately 250 bore holes supporting the sampling would be drilled. Each drill site would require a drill pad approximately 2,400 square feet in size. Access would be provided by a combination of existing roads and trails and newly constructed trails 14 feet in width. Heavy equipment including caterpillars, low-boy transport trailers, and portable drill rigs would be utilized to take the samples.

Should a permit be issued, the permit would not authorize any activity under the authority of the Mining Law and will not authorize mineral development or extraction beyond that associated with assessment sampling. Disturbed lands would be reclaimed in accordance with BLM regulations and standards.

Pursuant to the regulations found in 43 CFR part 2920, BLM has determined that the public lands described above are available for issuance of a non-competitive permit to FGMI for mineral assessment purposes. The BLM will therefore accept an application filed by FGMI for such a permit under Section 302 of FLPMA. The BLM will complete an environmental analysis and make a decision regarding whether to deny or grant the application.

Detailed information relating to the permit process and environmental analysis will be available for review at the location identified in ADDRESSES above. Comments regarding the proposed non-competitive permit and the BLM's determination of the availability of the subject lands for the described use may be submitted in writing to the Acting Field Office Manager (see ADDRESSES, above) on or before August 11, 2014. All comments submitted will be evaluated by BLM's Eastern Interior Acting Field Office Manager prior to making a final decision on whether or not to authorize use of the subject lands for mineral assessment work.

Before including your address, phone number, email address or other personal identifying information (PII) in your comment, you should be aware that your entire comment may be made publically available at any time. While you may request that your PII be withheld from public review, we cannot guarantee that we will be able to do so.

Authority: 43CFR 2920.4.

Ted A. Murphy,
BLM Alaska Acting State Director.

[FR Doc. 2014-16227 Filed 7-10-14; 8:45 am]

BILLING CODE 4310-JA-P